FEDERAL COMMUNICATIONS COMMISSION

[WC Docket No. 05-68; DA 06-1948]

Pleading Cycle Established for Petitions for Reconsideration and/or for Clarification of the Prepaid Calling Card Order

AGENCY: Federal Communications Commission.

ACTION: Notice.

SUMMARY: On September 28, 2006 the Commission released a Public Notice seeking comment on Arizona Dialtone Inc.'s petition for declaratory ruling and IDT Telecom, Inc.'s petition for clarification or, in the alternative, for reconsideration of the Commission's Prepaid Calling Card Order.

DATES: Interested parties may file comments on or before October 12, 2006 and reply comments on or before October 23, 2006.

ADDRESSES: Comments should be mailed to the Commission's Secretary through the Commission's contractor, Natek, Inc., at 236 Massachusetts Avenue, NE., Suite 110, Washington, DC 20002.

FOR FURTHER INFORMATION CONTACT: Lynne Hewitt Engledow, Wireline Competition Bureau, Pricing Policy Division, (202) 418-1520.

SUPPLEMENTARY INFORMATION: On August 31, 2006, Arizona Dialtone Inc. filed a petition for reconsideration of the Commission's Prepaid Calling Card Order. On September 1, 2006, IDT Telecom, Inc. filed a petition for clarification or, in the alternative, for reconsideration of the Prepaid Calling Card Order. On September 28, 2006 the Commission released a Public Notice establishing a pleading cycle for comments and reply comments on the two petitions. Interested parties may file comments on or before October 12, 2006 and reply comments on or before October 23, 2006.

Parties filing comments on these petitions must file an original and four copies of each filing. The filings should reference WC Docket No. 05-68. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

The filing hours at this location are 8 a.m. to 7 p.m.

All hand deliveries must be held together with rubber bands or fasteners.

Any envelopes must be disposed of before entering the building.

Commercial overnight mail (other than U.S. Postal Service Express Mail and Priority Mail) must be sent to 9300 East Hampton Drive, Capitol Heights, MD 20743.

U.S. Postal Service first-class mail, Express Mail, and Priority Mail should be addressed to 445 12th Street, SW., Washington, DC 20554.

All filings must be addressed to the Commission's Secretary, Marlene H. Dortch, Office of the Secretary, Federal Communications Commission, Room TW-A325, 445 12th Street, SW., Washington, DC 20554. Parties should also send a copy of their filings to Lynne Hewitt Engledow, Pricing Policy Division, Wireline Competition Bureau, Federal Communications Commission, Room 5-A361, 445 12th Street, SW., Washington, DC 20554, or by e-mail to lynne.engledow@fcc.gov. Parties shall also serve one copy with the Commission's copy contractor, Best Copy and Printing, Inc. (BCPI), Portals II, 445 12th Street, SW., Room CY-B402, Washington, DC 20554, (202) 488-5300, or via e-mail to fcc@bcpiweb.com.

Authority: 47 U.S.C. 152, 154, 155, 303; 47 CFR 0.291, 1.749.

Federal Communications Commission.
Thomas J. Navin,
Chief, Wireline Competition Bureau.

[FR Doc. E6-17513 Filed 10-18-06; 8:45 am]

BILLING CODE 6712-01-P